DEPARTMENT OF COMMERCE

Foreign-Trade Zones Board

[S-24-2019]

Foreign-Trade Zone 59—Lincoln, Nebraska; Application for Subzone; Adams Warehousing, LLC; Sidney, Nebraska

An application has been submitted to the Foreign-Trade Zones Board (the Board) by Lincoln Foreign-Trade Zone, Inc., grantee of FTZ 59, requesting subzone status for the facility of Adams Warehousing Company, LLC (Adams Warehousing), located in Sidney, Nebraska. The application was submitted pursuant to the provisions of the Foreign-Trade Zones Act, as amended (19 U.S.C. 81a-81u), and the regulations of the Board (15 CFR part 400). It was formally docketed on February 21, 2019.

The proposed subzone (852.84 acres) is located at 1655 Industrial Avenue, Sidney, Nebraska. No authorization for production activity has been requested at this time. The proposed subzone would be subject to the existing activation limit of FTZ 59.

In accordance with the Board's regulations, Christopher Kemp of the FTZ Staff is designated examiner to review the application and make recommendations to the Executive Secretary.

Public comment is invited from interested parties. Submissions shall be addressed to the Board's Executive Secretary at the address below. The closing period for their receipt is April 8, 2019. Rebuttal comments in response to material submitted during the foregoing period may be submitted during the subsequent 15-day period to April 23, 2019.

A copy of the application will be available for public inspection at the Office of the Executive Secretary, Foreign-Trade Zones Board, Room 21013, U.S. Department of Commerce, 1401 Constitution Avenue NW, Washington, DC 20230-0002, and in the “Reading Room” section of the Board's website, which is accessible via www.trade.gov/ftz.

For further information, contact Christopher Kemp at Christopher.Kemp@trade.gov or (202) 482-0862.

Dated: February 21, 2019.
Andrew McGilvray,
Executive Secretary.

[FR Doc. 2019-03424 Filed 2-26-19; 8:45 am]

BILLING CODE 3510-DS-P